DEPARTMENT OF COMMERCE

International Trade Administration

Dartmouth College, et al., Notice of Consolidated Decision on Applications, for Duty-Free Entry of Scientific Instruments

This is a decision consolidated pursuant to Section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Comments: None received. Decision: Approved. No instrument of equivalent scientific value to the foreign instruments described below, for such purposes as each is intended to be used, is being manufactured in the United States.

Docket Number: 05-047. Applicant: Dartmouth College, Thayer School of Engineering, Hanover, NH. Instrument: Magneto-optic Kerr Effect Microscope. Manufacturer: Durham Magneto Optics,Ltd., UK. Intended Use: See notice at 70 FR 72609, December 6, 2005. Reasons: The foreign instrument provides:

1. Variation of the magnetic field configuration both in time and according to the relative strength of the three directional components.

2. Laser spot size to the order of 1.5 to 2.0 m.

3. Ability to rotate the time-varying applied magnetic field relative to the incoming light.

4. Modification of the sensor optics to maximize the signal in order to handle a variety of sample shapes and thickness.

5. Amenity to instruction of students.

Advice received from: The National Institute of Standards and Technology.

Docket Number: 05-055. Applicant: Rutgers, The State University of New Jersey, New Brunswick, NJ. Instrument: Near-Field Optical Microscope integrated to Micro-Raman. Manufacturer: Nanonics Imaging Ltd., Israel. Intended Use: See notice at 70 FR 77145, December 29, 2005. Reasons: The foreign instrument is a compatible accessory which is designed to be directly integrated with the applicant's existing Renishaw micro-Raman system. This microscope comes equipped with the Raman software module for the Renishaw Raman and CCD camera spectroscopy control and the Raman low-noise vibration isolation platform. The complete system will meet the applicant's requirements to characterize the chemical bonding and elastic strains in nanostructured materials. Advice received from: The National Institutes of Health.

Docket Number: 05-061. Applicant: University of Michigan, Ann Arbor, MI. Instrument: Application Specific Integrated Circuit. Manufacturer: Ideas ASA, Norway. Intended Use: See notice at 71 FR 2024, January 12, 2006. Reasons: The foreign instrument is a compatible accessory for a unique 3-dimensional position sensitive CdZnTe semiconductor gamma-ray spectrometer. The article provides a multi-channel, charge-sensing amplifier with very low noise of about 300 electrons rms, for which three iterations have been developed in collaboration with Ideas ASA. The systems can get energy and 3-D position information for not only single-interaction events, but for multiple-interaction events by using electron drift times. Excellent energy resolution for both single-interaction events (0.8% FWHM at 662 keV) and multiple-interaction events (1.3% FWHM at 662 keV)has been achieved. A new scalable detector array system, with plug-in electronics, is required for further development of the spectrometer. Development of an equivalent device from a different source would cause a significant delay in this project.

Docket Number: 06-001. Applicant: Medical college of Georgia, Augusta, GA. Instrument: Micromanipulator System. Manufacturer: Luigs & Neuman, Germany. Intended Use: See notice at 71 FR 4895, January 30, 2006. Reasons: The foreign instrument is an ancillary device which provides micromanipulator staging and control that will be used to maneuver electrophysiology equipment, that requires precision in its location, which will be centered around a multi-photon confocal microscope. No known domestic manufacturers produce a micromanipulator system which is compatible with this equipment. Advice received from: The National Institutes of Health.

The capabilities of each of the foreign instruments described above are pertinent to each applicant's intended use of it and we know of no other instrument or apparatus being manufactured in the United States which is of equivalent scientific value to any of the foreign instruments.

Gerald A. Zerdy,
Program Manager, Statutory Import Programs Staff.

[FR Doc. E6-2986 Filed 3-1-06; 8:45 am]

BILLING CODE 3510-DS-S